DEPARTMENT OF HEALTH AND HUMAN SERVICES

Food and Drug Administration

[Docket No. 01N-0050]

Agency Information Collection Activities; Proposed Collection; Comment Request; Medical Devices; Premarket Approval of Medical Devices; Correction

AGENCY: Food and Drug Administration, HHS.

ACTION: Notice; correction.

SUMMARY: The Food and Drug Administration (FDA) is correcting a notice that appeared in the Federal Register of February 8, 2001 (66 FR 9582). The document announced an opportunity for public comment on a proposed collection of information; specifically, comments on the submission of premarket approval for a medical device. The notice published with one error. This document corrects that error.

FOR FURTHER INFORMATION CONTACT: Peggy Schlosburg, Office of Information Resources Management (HFA-250), Food and Drug Administration, 5600 Fishers Lane, Rockville, MD 20857, 301-827-1223.

SUPPLEMENTARY INFORMATION: In FR Doc. 01-3323, appearing on page 9582 in the Federal Register of Thursday, February 8, 2001, the following correction is made:

1. On page 9582, the title “Agency Information Collection Activities; Proposed Collection; Comment Request; Medical Devices; Classification/Reclassification; Restricted Devices: Premarket Approval of Medical Devices” is corrected to read “Agency Information Collection Activities; Proposed Collection; Comment Request; Medical Devices; Premarket Approval of Medical Devices.”

Dated: March 12, 2001.
William K. Hubbard,
Senior Associate Commissioner for Policy, Planning, and Legislation.

[FR Doc. 01-6777 Filed 3-19-01; 8:45 am]

BILLING CODE 4160-01-S